DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NHSC).

Dates and Times: May 7, 2009, 1 p.m.-4:45 p.m.; May 8, 2009, 8:30 a.m.-4 p.m.; and May 9, 2009, 8:30 a.m.-1:30 p.m.

Place: Marriott Philadelphia Downtown, 1201 Market St., Philadelphia, PA 19107. Phone: 215-625-2900.

Status: The meeting will be open to the public.

Agenda: The Council will be convening in Philadelphia, PA to hear updates from the Agency, discuss recruitment strategies for the NHSC and address current workforce issues. The Council will also participate in a regional town hall meeting sponsored by the NHSC.

For Further Information Contact: Jeanean Willis-Marsh, Bureau of Clinician Recruitment and Service, Health Resources and Services Administration, Parklawn Building, Room 8A-46, 5600 Fishers Lane, Rockville, MD 20857; e-mail: JWillis@hrsa.gov; telephone: 301-449-4494.

Dated: March 26, 2009.
Alexandra Huttinger,
Director, Division of Policy Review and Coordination.

[FR Doc. E9-7424 Filed 4-1-09; 8:45 am]

BILLING CODE 4165-15-P